Title 3—

The President

Proclamation 8655 of April 14, 2011

Education and Sharing Day, U.S.A., 2011

By the President of the United States of America

A Proclamation

The future of our Nation depends on our ability to instill in future generations the values that will help them write the next proud chapter of the American story—a dedication to knowledge and a sense of compassion for their fellow citizens. As we celebrate Education and Sharing Day, U.S.A., we recommit to preparing our sons and daughters to thrive with principle and purpose in the 21st century.

Over the next decade, nearly half of all new jobs will require advanced training or a college degree. Ensuring our children meet this standard will take the collective commitment of parents, teachers, and communities coming together to instill a love of learning in our young people. By doing so, we can unlock every child’s potential and give them the chance to fulfill their dreams, while laying the foundation for our country’s continued prosperity.

Education alone, however, cannot fully prepare our children to stand at the helm of our Nation. In an increasingly interconnected world, America remains a beacon of hope for many across the globe because of our open hearts during times of extraordinary challenge and our dedication to our common humanity. We must nurture these traits in our children to ensure America continues to be a symbol of promise to the world.

On Education and Sharing Day, U.S.A., we celebrate the example set by Rabbi Menachem Mendel Schneerson, the Lubavitcher Rebbe, who dedicated his life to improving education and fostering goodwill for all people. His legacy continues to inspire individuals to carry forward his effort to build a brighter future. Each year, Education and Sharing Day, U.S.A., reminds us of our obligation to create opportunities for a better tomorrow—life lessons we pass on to all our children.

NOW, THEREFORE, I, BARACK OBAMA, President of the United States of America, by virtue of the authority vested in me by the Constitution and the laws of the United States, do hereby proclaim April 15, 2011, as Education and Sharing Day, U.S.A. I call upon all Americans to observe this day with appropriate ceremonies and activities.

IN WITNESS WHEREOF, I have hereunto set my hand this fourteenth day of April, in the year of our Lord two thousand eleven, and of the Independence of the United States of America the two hundred and thirty-fifth.

[FR Doc. 2011-9728

Filed 4-19-11; 8:45 am]

Billing code 3195-W1-P